DEPARTMENT OF THE INTERIOR

Office of the Secretary

Alaska Land Managers Forum

AGENCY: Office of the Secretary, Interior.

ACTION: Notice of meeting.

SUMMARY: This notice is published in accordance with section 10(a)(2) of the Federal Advisory Committee Act (FACA), 5 U.S.C. App. (1988) and 41 CFR 101-6.1015(b). The Department of the Interior hereby gives notice of a public meeting of the Alaska Land Managers Forum (ALMF) to be held on Thursday, December 14, 2000, beginning at 9:00 a.m. It will take place in conference room B, Department of the Interior, 1689 C Street, Anchorage, Alaska. This meeting will be held to receive and discuss work group reports and informational briefings on recreation and tourism, and to announce the winners of the 2000 ALMF Tourism Awards Program.

FOR FURTHER INFORMATION CONTACT: Ronald B. McCoy at (907) 271-5485 or Sally Rue at (907) 465-4084.

Marilyn Heiman,
Special Assistant to the Secretary for Alaska, Department of the Interior, Office of the Secretary.

[FR Doc. 00-31006 Filed 12-5-00; 8:45 am]

BILLING CODE 4310-RP-P